DEPARTMENT OF HEALTH AND HUMAN SERVICES

Centers for Disease Control and Prevention

[30Day-13-12GF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Adoption, Health Impact and Cost of Smoke-Free Multi-Unit Housing—New—National Center for Chronic Disease Prevention and Health Promotion (NCCDPHP) and National Center for Environmental Health (NCEH), Centers for Disease Control and Prevention (CDC).

Background and Brief Description

The health risks associated with cigarette smoking and exposure to Secondhand Smoke (SHS) are well established. In 2006, the Surgeon General's report documented that over the past two decades, the scientific, engineering and medical literature have established a wide range of adverse health effects from SHS. The Surgeon General's report concluded that there is no safe level of exposure to SHS.

Approximately 85 million Americans reside in multi-unit housing (MUH) facilities, which comprise nearly 30% of all housing in the U.S. Although residents may choose not to smoke, they may still be exposed to SHS through the routine operation of facility-wide heating, ventilating and air conditioning systems.

The private sector has begun to institute smoke-free policies in MUH on a voluntary basis through changes in leasing agreements and advertising, however, smoking restrictions in MUH have largely been limited to common areas and spaces, not individual dwelling units. There are no studies that have examined the impact of smoke free policies by comparing pre- and post SHS exposure and changes in health outcomes after local governments adopt regulatory policies that protect residents from the effects of exposure to SHS in their housing units.

CDC proposes to conduct a study to address the gap in scientific evidence about the impact of jurisdiction-wide strategies (hereafter known as smoke-free MUH policies) to protect individuals from SHS in MUH settings. Through the collection and analysis of environmental and biometric data, the study will demonstrate how SHS exposure can be measured and will quantify how exposure changes when smoke-free policies are implemented. In addition, the study will examine barriers and facilitators to implementation of smoke-free policies in MUH and the cost-effectiveness of these policies. CDC is authorized to conduct this investigation by the Public Health Service Act. The activities are funded through the Prevention and Public Health Fund of the Patient Protection and Affordable Care Act.

The proposed study consists of two components. The first component involves data collection in Los Angeles County, California, and includes a number of “intervention” communities that have adopted, or are scheduled to adopt, smoke-free MUH laws by mid-2012, as well as “comparison” communities that have not adopted laws regulating SHS in MUH. Communities being considered for participation in the study as intervention communities include Sierra Madre, Lawndale, Culver City, El Monte, Artesia, San Fernando, San Gabriel, Hawthorne, Carson, Huntington Park, South Pasadena, and Compton. Communities being considered for participation in the study as comparison communities include Lomita, Lynwood, Monrovia, Montebello, Alhambra, LaPuente, Monterey Park, Inglewood, Gardena, Maywood, El Segundo, and South Gate.

The availability of both intervention and comparison communities will enable use of a quasi-experimental, baseline and follow-up study design for examining the impact of smoke-free policies in MUH. Over a period of two years, a sample of 500 MUH residents and 130 MUH operators will be selected from intervention cities and a comparable sample of 500 MUH residents and 130 MUH operators will be selected from comparison cities. Baseline and follow-up surveys will be conducted involving MUH operators, MUH residents, and parents of children who reside in MUH facilities. Also, MUH residents will be recruited to collect environmental air quality data, and both parents and children who reside in MUH facilities will be recruited to provide saliva samples. These samples will be analyzed for the presence of cotinine, a biomarker of exposure to SHS.

The second component of the study will involve focus groups in Maine, Minnesota, and Florida—states have adopted and implemented smoke-free MUH policies for a longer period of time, either as a response to local regulations or voluntarily. A one-time survey of MUH operators will be conducted, and a sample of 12 MUH operators will be selected from communities in Minnesota, Maine, and Florida. In addition, a total of 120 residents will be selected to participate in short focus groups, with a maximum of 4 focus groups per state. The primary data sources for this component of the study will be (a) quantitative data obtained from interviews with 12 MUH operators (4 operators in the three study locations, using the same questionnaire as Los Angeles County); (b) qualitative data from participants from up to 12 focus groups (an expected total of 120 residents); and (c) quantitative data on the same residents from pre-focus group questionnaires. Results from studies in these three geographic areas and from cities in LA County, will provide insights more useful at the national population level than results based solely on information collected in LA County.

OMB approval is requested for two years. Participation is voluntary. The only cost to respondents is their time. The total estimated annualized burden hours are 1,920.

Estimated Annualized Burden Hours
Type of respondent | Form name | Number of respondents | Number of responses per respondent | Average burden per response (in hr)
MUH Operators in Los Angeles County | Telephone Script for Recruitment of MUH Operators in LA County | 173 | 1 | 5/60
| MUH Operator Baseline Survey | 130 | 1 | 75/60
| MUH Operator Post-Intervention Survey | 130 | 1 | 75/60
MUH Operators in Minnesota, Maine, and Florida | Telephone Script for Recruitment of MUH Operators in MN, ME, FL | 6 | 1 | 5/60
| MUH Operator Baseline Survey | 6 | 1 | 75/60
| MUH Operator Post-Intervention Survey | 6 | 1 | 75/60
Adult MUH Residents in Los Angeles County | Resident Survey—Baseline: Screening Eligibility | 833 | 1 | 5/60
| Resident Survey—Baseline: Core | 500 | 1 | 45/60
| Resident Survey—Baseline: Children's Module | 250 | 1 | 15/60
| Resident Survey—Post Intervention: Core | 500 | 1 | 45/60
| Resident Survey—Post Intervention: Children's Module | 250 |  | 15/60
| Protocol for Saliva Collection (Adult) | 1,000 | 1 | 10/60
| Airborne Particle Monitoring Diary | 200 | 1 | 90/60
Child MUH Residents in LA County | Protocol for Saliva Collection (Child) | 500 | 1 | 10/60
MUH Residents in Minnesota, Maine and Florida | Resident Focus Group Telephone Screening Interview Script | 60 | 1 | 5/60
| Resident Pre-Focus Group Demographic and Attitudinal Survey | 60 | 1 | 5/60
| MUH Resident Focus Group Guide—Process Oriented | 30 | 1 | 1
| MUH Resident Focus Group Guide—Outcome Oriented | 30 | 1 | 1

Dated: October 2, 2012.
Ron A. Otten,
Director, Office of Scientific Integrity (OSI) Office of the Associate Director for Science (OADS), Office of the Director, Centers for Disease Control and Prevention.

[FR Doc. 2012-24767 Filed 10-5-12; 8:45 am]

BILLING CODE 4163-18-P